DEPARTMENT OF JUSTICE

Drug Enforcement Administration

[Docket No. DEA-810]

Importer of Controlled Substances Application: Royal Emerald Pharmaceuticals Research and Development DBA: Royal Emerald Pharmaceuticals

AGENCY: Drug Enforcement Administration, Justice.

ACTION: Notice of application.

SUMMARY: Royal Emerald Pharmaceuticals Research and Development DBA: Royal Emerald Pharmaceuticals has applied to be registered as an importer of basic class(es) of controlled substance(s). Refer to Supplemental Information listed below for further drug information.

DATES: Registered bulk manufacturers of the affected basic class(es), and applicants therefore, may file written comments on or objections to the issuance of the proposed registration on or before May 5, 2021. Such persons may also file a written request for a hearing on the application on or before May 5, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 22, 2020, Royal Emerald Pharmaceuticals Research and Development DBA: Royal Emerald Pharmaceuticals, 14011 Palm Drive, Desert Hot Springs, California 92240, applied to be registered as an importer of the following basic class(es) of controlled substance(s):

Controlled substance | Drug code | Schedule
Marihuana | 7360 | I
Tetrahydrocannabinols | 7370 | I

The company plans to import Marihuana seeds and immature Marihuana plants in the form of Active Pharmaceutical Ingredients (API) and botanical raw materials for DEA-approved legitimate scientific medical research and/or industrial purposes.

William T. McDermott,
Assistant Administrator.

[FR Doc. 2021-06900 Filed 4-2-21; 8:45 am]

BILLING CODE P